DEPARTMENT OF AGRICULTURE

Forest Service

Revision of the Land and Resource Management Plan for the Tonto National Forest located in Gila, Maricopa, Pinal and Yavapai Counties, AZ

AGENCY: Forest Service, USDA.

ACTION: Cancellation Notice.

SUMMARY: On September 30, 1999, a Notice of Intent (NOI) to prepare an environmental impact statement of the revision of the Land and Management Plan for the Tonto National forest was published in the Federal Register (64 FR 52765-52766). This 1999 NOI is hereby rescinded.

FOR FURTHER INFORMATION CONTACT: Eddie Alford, Planning Group Leader or Paul Stewart, Acting Team Leader, Tonto National Forest, 2324 E. McDowell Road, Phoenix, AZ 85006, telephone (602) 225-5200.

SUPPLEMENTARY INFORMATION: On November 30, 2001 (66 FR 59775-59777), the Chief of the Forest Service, as required by the Land and Resource Management Planning Rule adopted in November 2000, published in plan revision schedule for National Forest System units that have not completed revisions of their plans. This notice set out the schedule for revisions and an explanation of some of the factors that affected scheduling decisions. This schedule indicates a revision initiation date for the Tonto National Forest of 2005. A new notice of intent to revise will be published with the initiation of the plan revision process.

Dated: July 16, 2002.
Lucia M. Turner,
Regional Forester.

[FR Doc. 02-19451 Filed 8-5-02; 8:45 am]

BILLING CODE 3410-11-M